DEPARTMENT OF HEALTH AND HUMAN SERVICES

Food and Drug Administration

The Sixth Annual FDA-Orange County Regulatory Affairs (OCRA) Educational Conference “FDA and OCRA: Understanding the Changing Landscape”

AGENCY: Food and Drug Administration, HHS.

ACTION: Notice of meeting.

The Food and Drug Administration (FDA) is announcing its sixth annual educational conference entitled “FDA and OCRA: Understanding the Changing Landscape” cosponsored with OCRA. The conference is intended to provide the drug, device and biologics industries with an opportunity to interact with FDA reviewers and compliance officers from FDA's centers and district offices, as well as other industry experts. The main focus of this interactive conference will be product approval, compliance, and risk management in the three medical product areas. Industry speakers, interactive questions and answer, and workshop sessions will also be included to assure open exchange and dialogue on the relevant regulatory issues.

Date and Time: The meeting will be held on June 4 and 5, 2003, from 7:30 a.m. to 5 p.m.

Location: The meeting will be held at The Irvine Marriott, 18000 Von Karman Ave., Irvine, CA.

Contact: Ramlah Oma, Food and Drug Administration, 19900 MacArthur Blvd., suite 300, Irvine, CA 92612, 949-798-7611, FAX 949-798-7656, or OCRA, Attention to detail (ATD), 111 East Avenida San Gabriel, San Clemente, CA 92672, 949-366-1056, FAX 949-366-1057, Web site: http://www.ocra-dg.org. (FDA has verified the Web site address, but is not responsible for subsequent changes to the Web site after the document publishes in the Federal Register.)

Registration and Meeting Information: See OCRA Web site at http://www.ocra-dg.org. Contact ATD at 949-366-1056.

Before May 20, 2003, registration fees are as follows: $425.00 for members, $500.00 for nonmembers, and $275.00 for FDA/government/full-time students with proper identification. After May 20, 2003, $495.00 for members, $575.00 for nonmembers, and $325.00 for FDA/government/full-time students with proper identification.

If you need special accommodations due to a disability, please contact Ramlah Oma at least 10 days in advance.

Dated: May 2, 2003.
Jeffrey Shuren,
Assistant Commissioner for Policy.

[FR Doc. 03-11651 Filed 5-8-03; 8:45 am]

BILLING CODE 4160-01-S